ENVIRONMENTAL PROTECTION AGENCY

[EPA-HQ-OW-2003-0033; FRL-10020-95-OMS]

Information Collection Request Submitted to OMB for Review and Approval; Comment Request; Modification of Secondary Treatment Requirements for Discharges Into Marine Waters (Renewal)

AGENCY: Environmental Protection Agency (EPA).

ACTION: Notice.

SUMMARY: The Environmental Protection Agency (EPA) has submitted an information collection request (ICR), Modification of Secondary Treatment Requirements for Discharges into Marine Waters (EPA ICR Number 0138.12, OMB Control Number 2040-0088) to the Office of Management and Budget (OMB) for review and approval in accordance with the Paperwork Reduction Act. Public comments were previously requested via the Federal Register on August 10, 2020, during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 31, 2021.

ADDRESSES: Submit your comments to EPA, referencing Docket ID No. EPA-HQ-OW-2003-0033, online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Virginia Fox-Norse, Oceans, Wetlands and Communities Division, Office of Water, (4504T), Environmental Protection Agency, 1200 Pennsylvania Ave. NW, Washington, DC 20460; telephone number: 202 566-1266; email address: fox-norse.virginia@epa.gov.

SUPPLEMENTARY INFORMATION: Supporting documents, which explain in detail the information that EPA will be collecting, are available in the public docket for this ICR. The docket can be viewed online at www.regulations.gov or in person at EPA Docket Center, EPA West, Room 3334, 1301 Constitution Ave. NW, Washington, DC. The telephone number for the Docket Center is 202-566-1744. For additional information about EPA's public docket, visit http://www.epa.gov/dockets.

Abstract: Regulations implementing section 301(h) of the Clean Water Act (CWA) are found at 40 CFR part 125, subpart G. This CWA section allows for a case-by-case review of treatment requirements for publicly owned treatment works (POTW) discharges to marine waters. Eligible POTW applicants that met the set of environmentally stringent criteria received a modified National Pollutant Discharge Elimination System (NPDES) permit waiving secondary treatment requirements. CWA section 301(h) only applies to the 25 POTWs that applied by December 29, 1982, that currently hold modified permits and the six states in which the POTWs are located. No new applications are accepted.

The CWA section 301(h) program involves collecting information from municipal wastewater treatment facilities (POTWs), and the state in which the POTW is located. A POTW holding a modified permit or reapplying for a modification provides application, monitoring, and toxic control program information. The state provides information on its determination whether the discharge under the proposed conditions of the modified permit ensures the protection of water quality, biological habitats, and beneficial uses of receiving waters and whether the discharge will result in additional treatment, pollution control, or any other requirement for any other point or nonpoint sources. The state also provides information to certify that the discharge will meet all applicable state laws and that the state accepts all permit conditions.

There are four situations where information will be required: (1) A POTW reapplying for a CWA section 301(h) modified permit. As the permits with section 301(h) modifications reach their expiration dates, EPA must have updated information on the discharge to determine whether criteria are still being met and whether the modified permit should be reissued. (2) Once a modified permit has been granted, EPA must continue to assess whether the discharge is meeting the CWA criteria, and that the receiving water quality, biological habitats, and beneficial uses of the receiving waters are protected. To do this, EPA needs monitoring and toxics control information furnished by the permittee. (3) Application revision information: A POTW is allowed to revise its application one time only, following a tentative decision by EPA to deny the modified permit request. In its application revision, the POTW usually corrects deficiencies and changes proposed treatment levels as well as outfall and diffuser locations. The application revision is a voluntary submission for the applicant. (4) State determination and state certification information: The state determines whether all state laws are satisfied. Additionally, the state must determine if the applicant's discharge will result in additional treatment, pollution control, or any other requirement for any other point or nonpoint sources. This process allows the state's views to be considered when EPA reviews the application and develops permit conditions.

Form numbers: None.

Respondents/affected entities: Municipalities that currently have CWA section 301(h) modifications from secondary treatment, or have applied for a renewal of a CWA section 301(h) modified permit, and the states within which these municipalities are located.

Respondent's obligation to respond: Required to obtain or retain a benefit.

Estimated number of respondents: 31 (total).

Frequency of response: From once every five years, to varies case-by-case, depending on the category of information.

Total estimated burden: 44,985 hours (per year). Burden is defined at 5 CFR 1320.3(b).

Total estimated cost: $1,300,339 (per year), includes $0 annualized capital or operation & maintenance costs.

Changes in the estimates: There is an increase of hours in the total estimated respondent burden compared with the ICR currently approved by OMB. This increase is due to changes in respondent universe, program status, information needs, and use of technology.

Courtney Kerwin,
Director, Regulatory Support Division.

[FR Doc. 2021-04095 Filed 2-26-21; 8:45 am]

BILLING CODE 6560-50-P